DEPARTMENT OF DEFENSE

GENERAL SERVICES ADMINISTRATION

NATIONAL AERONAUTICS AND SPACE ADMINISTRATION

48 CFR Parts 2 and 31

[FAC 2005-06; FAR Cases 2004-018 and 2004-006; Correction]

Federal Acquisition Regulation; Technical Amendments

AGENCIES: Department of Defense (DoD), General Services Administration (GSA), and National Aeronautics and Space Administration (NASA).

ACTION: Technical amendment.

SUMMARY: The Civilian Agency Acquisition Council and the Defense Acquisition Regulations Council are issuing amendments to the Federal Acquisition Regulation (FAR) to correct references included in FAC 2005-06, FAR cases 2004-018, Information Technology Security (Item I), and 2004-006, Accounting for Unallowable Costs (Item IX), which were published in the Federal Register at 70 FR 57449 and 57463, September 30, 2005.

DATES: Effective Date: November 14, 2005.

FOR FURTHER INFORMATION CONTACT: The FAR Secretariat, Room 4035, GS Building, Washington, DC, 20405, (202) 501-4755, for information pertaining to status or publication schedules. Please cite FAC 2005-06 Correction, Technical Amendments.

List of Subjects in 48 CFR Parts 2 and 31

Government procurement.

Dated: November 4, 2005.
Gerald Zaffos,
Director, Contract Policy Division.

Federal Acquisition Circular

Federal Acquisition Circular (FAC) 2005-06 Correction is issued under the authority of the Secretary of Defense, the Administrator of General Services, and the Administrator for the National Aeronautics and Space Administration.

Unless otherwise specified, all Federal Acquisition Regulation (FAR) and other directive material contained in FAC 2005-06 Correction are effective November 14, 2005.

Dated: November 4, 2005.
Domenic C. Cipicchio,
Acting Director, Defense Procurement and Acquisition Policy.

Dated: November 4, 2005.
Roger Waldron,
Acting Senior Procurement Executive, Office of the Chief Acquisition Officer, General Services Administration.

Dated: November 1, 2005.
Tom Luedtke,
Assistant Administrator for Procurement, National Aeronautics and Space Administration.

Therefore, DoD, GSA, and NASA amend 48 CFR parts 2 and 31 as set forth below:

1. The authority citation for 48 CFR parts 2 and 31 continues to read as follows:

Authority: 40 U.S.C. 121(c); 10 U.S.C. chapter 137; and 42 U.S.C. 2473(c).

PART 2—DEFINITIONS OF WORDS AND TERMS

2.101 [Amended]

2. Amend section 2.101 in paragraph (b) by removing the definition “Sensitive But Unclassified (SBU) information”.

PART 31—CONTRACT COST PRINCIPLES AND PROCEDURES

31.201-6 [Amended]

3. Amend section 31.201-6 by revising the introductory text of paragraph (c)(2) to read as follows:

31.201-6 Accounting for unallowable costs.

* * * * *

(c) * * *

(2) Statistical sampling is an acceptable practice for contractors to follow in accounting for and presenting unallowable costs provided the following criteria in paragraphs (c)(2)(i), (c)(2)(ii), and (c)(2)(iii) of this subsection are met:

* * * * *

[FR Doc. 05-22505 Filed 11-10-05; 8:45 am]

BILLING CODE 6820-EP-S